DEPARTMENT OF COMMERCE

International Trade Administration

[C-570-959]

Certain Coated Paper Suitable For High-Quality Print Graphics Using Sheet-Fed Presses from the People's Republic of China: Amended Affirmative Preliminary Countervailing Duty Determination

AGENCY: Import Administration, International Trade Administration, Department of Commerce.

SUMMARY: The purpose of this amended affirmative preliminary determination is to correct significant ministerial errors in the preliminary determination, published on March 9, 2010, that countervailable subsidies are being provided to producers and exporters of certain coated paper suitable for high-quality print graphics using sheet-fed presses from the People's Republic of China (“PRC”).

EFFECTIVE DATE: June 1, 2010.

FOR FURTHER INFORMATION CONTACT: David Neubacher, AD/CVD Operations, Office 1, Import Administration, International Trade Administration, U.S. Department of Commerce, 14th Street and Constitution Avenue, NW, Washington, DC 20230; telephone: (202) 482-5823.

SUPPLEMENTARY INFORMATION:

Background

On March 9, 2010, we published our preliminary determination stating that countervailable subsidies are being provided to producers and exporters of coated paper from the PRC. See Certain Coated Paper Suitable For High-Quality Print Graphics Using Sheet-Fed Presses from the People's Republic of China: Preliminary Affirmative Countervailing Duty Determination and Alignment of Final Countervailing Duty Determination with Final Antidumping Duty Determination, 75 FR 10774 (March 9, 2010) (“Preliminary Determination”). On March 23, 2010, Appleton Coated LLC, NewPage Corporation, S.D. Warren Company d/b/a Sappi Fine Paper North America, and the United Steel, Paper and Forestry, Rubber, Manufacturing, Energy, Allied Industrial and Service Workers International Union (collectively, “Petitioners”) filed a timely allegation of significant ministerial errors contained in the Department's Preliminary Determination. No rebuttal comments were received. After reviewing the allegation, we have determined that the Preliminary Determination included significant ministerial errors. Therefore, in accordance with 19 CFR 351.224(e), we have made changes, as described below, to the Preliminary Determination.

Scope of the Investigation

The scope of this investigation consists of Coated Paper, which are certain coated paper and paperboard¹ in sheets suitable for high quality print graphics using sheet-fed presses; coated on one or both sides with kaolin (China or other clay), calcium carbonate, titanium dioxide, and/or other inorganic substances; with or without a binder; having a GE brightness level of 80 or higher;² weighing not more than 340 grams per square meter; whether gloss grade, satin grade, matte grade, dull grade, or any other grade of finish; whether or not surface-colored, surface-decorated, printed (except as described below), embossed, or perforated; and irrespective of dimensions.

¹ “'Paperboard' refers to Coated Paper that is heavier, thicker and more rigid than coated paper which otherwise meets the product description. In the context of Coated Paper, paperboard typically is referred to as 'cover,' to distinguish it from 'text.'”

² One of the key measurements of any grade of paper is brightness. Generally speaking, the brighter the paper the better the contrast between the paper and the ink. Brightness is measured using a GE Reflectance Scale, which measures the reflection of light off of a grade of paper. One is the lowest reflection, or what would be given to a totally black grade, and 100 is the brightest measured grade.

Coated Paper includes: (a) coated free sheet paper and paperboard that meets this scope definition; (b) coated groundwood paper and paperboard produced from bleached chemi-thermo-mechanical pulp (“BCTMP”) that meets this scope definition; and (c) any other coated paper and paperboard that meets this scope definition.

Coated Paper is typically (but not exclusively) used for printing multi-colored graphics for catalogues, books, magazines, envelopes, labels and wraps, greeting cards, and other commercial printing applications requiring high quality print graphics.

Specifically excluded from the scope are imports of paper and paperboard printed with final content printed text or graphics.

As of 2009, imports of the subject merchandise are provided for under the following categories of the Harmonized Tariff Schedule of the United States (“HTSUS”): 4810.14.11, 4810.14.1900, 4810.14.2010, 4810.14.2090, 4810.14.5000, 4810.14.6000, 4810.14.70, 4810.19.1100, 4810.19.1900, 4810.19.2010, 4810.19.2090, 4810.22.1000, 4810.22.50, 4810.22.6000, 4810.22.70, 4810.29.1000, 4810.29.5000, 4810.29.6000, 4810.29.70. While HTSUS subheadings are provided for convenience and customs purposes, the written description of the scope of this investigation is dispositive.

Analysis of Alleged Significant Ministerial Error

A ministerial error is defined in 19 CFR 351.224(f) as “an error in addition, subtraction, or other arithmetic function, clerical error resulting from inaccurate copying, duplication, or the like, and any other similar type of unintentional error which the Secretary considers ministerial.” With respect to preliminary determinations, 19 CFR 351.224(e) provides that the Department “will analyze any comments received and, if appropriate, correct any significant ministerial error by amending the preliminary determination. . .” A significant ministerial error is defined as an error, the correction of which, singly or in combination with other errors, would result in: (1) a change of at least five absolute percentage points in, but not less than 25 percent of, the countervailable subsidy rate calculated in the original (erroneous) preliminary determination; or (2) a difference between a countervailable subsidy rate of zero (or de minimis) and a countervailable subsidy rate of greater than de minimis or vice versa. See 19 CFR 351.224(g).

We have determined that the Preliminary Determination contained ministerial errors with respect to Gold East Trading (Hong Kong) Company Limited, Gold East Paper (Jiangsu) Co., Ltd. and Gold Huasheng Paper Co., Ltd. (collectively, “Gold companies”). Correction of these ministerial errors results in the Gold companies' subsidy rate changing by more than five absolute points and not less than 25 percent of the originally calculated margin. Thus, the ministerial errors are significant pursuant to 19 CFR 351.224(g). See Memorandum to Susan Kuhbach, Director, Office 1, AD/CVD Operations, entitled, “Ministerial Error Allegations” (May 24, 2010) for the analysis performed. This memorandum is on file in the Department's Central Records Unit in Room 1117 of the main Department building.

Amended Preliminary Determination

Because the errors alleged by Petitioners regarding the countervailable subsidy rate calculation for the Gold companies are significant, we are amending the preliminary countervailing duty rate calculation for them pursuant to 19 CFR 351.224(e). In addition, the calculated All Others' rate in the Preliminary Determination was based on the simple average of the Gold companies' and Shandong Sun Paper Industry Joint Stock Co., Ltd.'s and its affiliate's, Yanzhou Tianzhang Paper Industry Co., Ltd., (collectively, “Sun Paper companies”) subsidy rates. Thus, we have also amended the All Others' rate to account for the change in the Gold companies' subsidy rate. To that end, we calculated the simple average of the Gold companies' revised subsidy rate and the Sun Paper companies' subsidy rate, unchanged from the Preliminary Determination.

As a result of corrections of ministerial errors, the amended preliminary net countervailable subsidy rates are as follows:

Exporter/Manufacturer | Original Subsidy Rate | Amended Subsidy Rate
Gold East Paper (Jiangsu) Co., Ltd, Gold Huasheng Paper Co., Ltd., Gold East Trading (Hong Kong) Company Ltd., Ningbo Zhonghua Paper Co., Ltd., and Ningbo Asia Pulp & Paper Co., Ltd. | 12.83 | 20.07
Shandong Sun Paper Industry Joint Stock Co., Ltd. and Yanzhou Tianzhang Paper Industry Co., Ltd. | 3.92 | 3.92
All Others | 8.38 | 12.00

Suspension of Liquidation

The collection of bonds or cash deposits and suspension of liquidation will be revised, in accordance with section 703(d) and (f) of the Act. Specifically, we will instruct U.S. Customs and Border Protection (“CBP”) to continue to suspend liquidation and to require a cash deposit or bond in the amounts indicated above, on all entries of coated paper from the PRC that are entered, or withdrawn from warehouse, for consumption on or after the date of publication of this notice in the Federal Register.

International Trade Commission Notification

In accordance with section 703(f) of the Act, we have notified the U.S. International Trade Commission (“ITC”) of our amended affirmative preliminary determination. If our final countervailing duty determination is affirmative, the ITC will determine whether the imports covered by that determination are materially injuring, or threatening material injury to, the U.S. industry.

This determination is issued and published pursuant to sections 703(f) and 777(i)(1) of the Act and 19 CFR 351.224(e).

Dated: May 21, 2010.
Ronald K. Lorentzen,
Deputy Assistant Secretary for Import Administration.

[FR Doc. 2010-13068 Filed 5-28-10; 8:45 am]

BILLING CODE 3510-DS-S